DEPARTMENT OF EDUCATION

Applications for New Awards; Jacob K. Javits Gifted and Talented Students Education Program

AGENCY: Office of Elementary and Secondary Education, Department of Education.

ACTION: Notice.

SUMMARY: The Department of Education is issuing a notice inviting applications for new awards for fiscal year (FY) 2017 for the Jacob K. Javits Gifted and Talented Students Education (Javits) program, Catalog of Federal Domestic Assistance (CFDA) number 84.206A.

DATES:

Applications Available: May 18, 2017.

Deadline for Transmittal of Applications: June 22, 2017.

Deadline for Intergovernmental Review: August 21, 2017.

FOR FURTHER INFORMATION CONTACT: Theda Zawaiza, U.S. Department of Education, 400 Maryland Avenue SW., Room number 3E310, Washington, DC 20202-6200. Telephone: (202) 205-3783.

If you use a telecommunications device for the deaf (TDD) or a text telephone (TTY), call the Federal Relay Service (FRS), toll free, at 1-800-877-8339.

SUPPLEMENTARY INFORMATION:

Full Text of Announcement

I. Funding Opportunity Description

Purpose of Program: The Javits program supports evidence-based research, demonstration projects, innovative strategies, and similar activities designed to build and enhance the ability of elementary and secondary schools nationwide to identify gifted and talented (as defined in this notice) students and meet their special educational needs.

Application Requirements: The following application requirements apply. Application requirements (1) through (4) and (5)(b) through (5)(d) are from section 4644 of the Elementary and Secondary Education Act of 1965, as amended by the Every Student Succeeds Act (ESEA). We are establishing application requirements (5)(a) and (6) in accordance with section 437(d)(1) of the General Education Provisions Act (GEPA), 20 U.S.C. 1232(d)(1). These requirements apply to the FY 2017 competition and any subsequent year in which we make awards from the list of unfunded applications from this competition.

Each application must describe how—

(1) The proposed project will—

(a) Implement evidence-based activities that are supported by promising evidence (as defined in this notice); or

(b) Develop new information that—

(i) Improves the capability of schools to plan, conduct, and improve programs to identify and serve gifted and talented students; or

(ii) Assists schools in the identification of, and provision of services to, gifted and talented students (including economically disadvantaged individuals, individuals who are English learners (as defined in this notice), and children with disabilities) who may not be identified and served through traditional assessment methods;

(2) The proposed identification methods, as well as gifted and talented services, materials, and methods, can be adapted, if appropriate, for use by all students;

(3) The proposed programs can be evaluated;

(4) The proposed project will, where appropriate, provide for the equitable participation of students and teachers in private nonprofit elementary and secondary schools, including the participation of teachers and other personnel in professional development programs serving such students;

(5) The funds awarded under this program will be used to carry out one or more of the following activities:

(a) Conducting evidence-based research (as described in paragraph (6)(e)), supported by promising evidence, on methods and techniques for identifying and teaching gifted and talented students and for using gifted and talented programs and methods to serve all students, particularly low-income and at-risk students;

(b) Establishing and operating model projects and exemplary programs for serving gifted and talented students, including innovative methods and strategies (such as summer programs, mentoring programs, peer tutoring programs, service learning programs, and cooperative learning programs involving business, industry, and education) for identifying and educating students who may not be served by traditional gifted and talented programs;

(c) Providing technical assistance and disseminating information, including assistance and information regarding how gifted and talented programs and methods, where appropriate, may be adapted for use by all students, particularly low-income and at-risk students; or

(d) Training of personnel in the identification and education of gifted and talented students and in the use, where appropriate, of gifted and talented services, materials, and methods for all students; and

(6) The proposed project will scale up (as defined in this notice) and evaluate the effectiveness of a model designed to increase the number of students from underrepresented groups who, through gifted and talented education programs, perform at high levels of academic achievement. To meet this requirement, applicants must include all of the following in their applications:

(a) Promising evidence from one or more evidence-based research and evaluation studies (as described in paragraph (6)(e)) indicating that the proposed intervention, or project component (as defined in this notice), has raised the achievement of students from one or more underrepresented groups in one or more core subject areas;

(b) Promising evidence from one or more evidence-based research and evaluation studies (as described in paragraph (6)(e)) that the proposed intervention has resulted in the identification of, and provision of services to, increased numbers of students from underrepresented groups who participate in gifted and talented education programs;

(c) A detailed description of the professional qualifications of each member of the applicant's leadership team, including an explanation of how the leadership team has significant expertise in each of the following areas: Gifted and talented education, research and program evaluation, content knowledge in one or more core academic subject areas, and experience working with underrepresented groups;

(d) A sound plan for implementing the model in multiple settings or with multiple populations; and

(e) A research and evaluation plan that employs an experimental study (as defined in this notice) or quasi-experimental design (QED) study (as defined in this notice) to measure the impact of the intervention on the achievement of students from underrepresented groups, including students who are economically disadvantaged, English learners, and students who have disabilities, and on the number of these students who are identified as gifted and talented and served through gifted and talented programs.

Evaluation methods using an experimental design are best for determining program effectiveness. Thus, when feasible, the project must use an experimental design under which participants (e.g., students, teachers, classrooms, or schools) are randomly assigned to participate in the project activities being evaluated or to a control group that does not participate in the project activities being evaluated.

If random assignment is not feasible, the project may use a QED study with carefully matched comparison conditions. This alternative design attempts to approximate a randomly assigned control group by matching participants with non-participants having similar pre-intervention characteristics.

In addition, successful applicants who accept this award must participate in a national evaluation study during the grant period.

Definitions: We are establishing definitions for correlational study with statistical controls for selection bias, experimental study, What Works Clearinghouse (WWC) Evidence Standards with reservations, WWC Evidence Standards without reservations, project component, promising evidence, and relevant outcome, in accordance with section 437(d)(1) of GEPA, 20 U.S.C. 1232(d)(1). The other definitions listed below are from section 8101 of the ESEA; 34 CFR 77.1; and the notice of final priority for this program that was published in the Federal Register on April 21, 2008 (73 FR 21329). These definitions apply to the FY 2017 grant competition and any subsequent year in which we make awards from the list of unfunded applications from this competition.

Correlational study with statistical controls for selection bias means a study that (1) estimates how a relevant outcome varies with the receipt of a project component, and (2) uses sampling or analysis methods (e.g., multiple regression) to account for at least some of the differences between the groups being compared.

English learner means an individual—

(a) Who is aged 3 through 21;

(b) Who is enrolled or preparing to enroll in an elementary school or secondary school;

(c)(1) Who was not born in the United States or whose native language is a language other than English;

(2)(i) Who is a Native American or Alaska Native, or a native resident of the outlying areas; and

(ii) Who comes from an environment where a language other than English has had a significant impact on the individual's level of English language proficiency; or

(3) Who is migratory, whose native language is a language other than English, and who comes from an environment where a language other than English is dominant; and

(d) Whose difficulties in speaking, reading, writing, or understanding the English language may be sufficient to deny the individual—

(1) The ability to meet the challenging State academic standards;

(2) The ability to successfully achieve in classrooms where the language of instruction is English; or

(3) The opportunity to participate fully in society.

Experimental study means a study, such as a randomized controlled trial (RCT) that is designed to compare outcomes between two groups of individuals that are otherwise equivalent except for their assignment to either a treatment group receiving a project component or a control group that does not. In some circumstances, a finding from a regression discontinuity design study (RDD) or findings from a collection of single-case design studies (SCDs) may be considered equivalent to a finding from an RCT. RCTs, RDDs, and collections of SCDs, depending on design and implementation, can meet WWC Evidence Standards without reservations. Definitions of randomized controlled trials, RDDs, and SCDs can be found at the following link: https://ies.ed.gov/ncee/wwc/Glossary.

Gifted and talented, when used with respect to students, children, or youth, means students, children, or youth who give evidence of high achievement capability in areas such as intellectual, creative, artistic, or leadership capacity, or in specific academic fields, and who need services or activities not ordinarily provided by the school in order to fully develop those capabilities.

Project component means an activity, strategy, intervention, process, product, practice, or policy included in a project.

Promising evidence means the following conditions are met:

(a) There is at least one well-designed and well-implemented correlational study with a relevant finding, meaning the study is a correlational study with statistical controls for selection bias (QED studies or experimental studies may also qualify); and

(b) The relevant finding in the study described in paragraph (a) is of a statistically significant and positive (i.e., favorable) effect of the project component on a student outcome or other relevant outcome with no statistically significant and overriding negative (i.e., unfavorable) evidence on that project component from other findings on the intervention reviewed by and reported in the WWC that meet WWC Evidence Standards with reservations or WWC Evidence Standards without reservations.

Quasi-experimental design (QED) study means a study using a design that attempts to approximate an experimental design by identifying a comparison group that is similar to the treatment group in important respects. This type of study, depending on design and implementation, can meet WWC Evidence Standards with reservations (but not WWC Evidence Standards without reservations).

Relevant outcome means the student outcome(s) (or the ultimate outcome if not related to students) the proposed project component is designed to improve, consistent with the specific goals of a program.

Scale up means to expand a program with demonstrated effectiveness on a small scale for use with gifted and talented students in broader settings (such as in multiple schools, grade levels, or districts, or in other educational settings) or with different populations of gifted and talented students (based on differences such as the socioeconomic, racial, ethnic, geographic, and linguistic backgrounds of the students and their families).

What Works Clearinghouse (WWC) Evidence Standards with reservations means the second-highest rating for a group design study reviewed by the WWC. Studies receiving this rating provide a reasonable degree of confidence that an estimated effect was caused by the project component studied. Both experimental studies (such as RCTs with high rates of sample attrition) and QED studies may receive this rating if they establish the equivalence of the treatment and comparison groups in key baseline characteristics. These standards are described in the WWC Procedures and Standards Handbooks, Version 3.0, which can be accessed at http://ies.ed.gov/ncee/wwc/Handbooks.

What Works Clearinghouse (WWC) Evidence Standards without reservations means it is the highest possible rating for a study finding reviewed by the WWC. Studies receiving this rating provide the highest degree of confidence that an estimated effect was caused by the project component studied. Experimental studies may receive this highest rating. These standards are described in the WWC Procedures and Standards Handbooks, Version 3.0, which can be accessed at http://ies.ed.gov/ncee/wwc/Handbooks.

Waiver of Proposed Rulemaking: Under the Administrative Procedure Act (5 U.S.C. 553), the Department generally offers interested parties the opportunity to comment on proposed requirements and definitions. Section 437(d)(1) of GEPA, however, allows the Secretary to exempt from rulemaking requirements, regulations governing the first grant competition under a new or substantially revised program authority. This is the first grant competition for this program under section 4644 of the ESEA (20 U.S.C. 7294) and, therefore, it qualifies for this exemption. In order to ensure timely grant awards, the Secretary has decided to forgo public comment on the requirements and definitions under section 437(d)(1) of GEPA. The requirements and definitions in this notice will apply to the FY 2017 grant competition and any subsequent year in which we make awards from the list of unfunded applications from this competition.

Program Authority: Section 4644 of the ESEA (20 U.S.C. 7294).

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The regulations in 34 CFR part 299.

Note: The regulations in 34 CFR part 79 apply to all applicants except federally recognized Indian Tribes. In addition, the regulations in 34 CFR part 86 apply to institutions of higher education (IHEs) only.

II. Award Information

Type of Award: Discretionary grants.

Estimated Available Funds: $5,000,000.

Contingent upon the availability of funds and the quality of applications, we may make additional awards in subsequent years from the list of unfunded applications from this competition.

Estimated Range of Awards: $300,000 to $500,000.

Estimated Average Size of Awards: $425,000.

Estimated Number of Awards: 9-12.

Note: The Department is not bound by any estimates in this notice.

Project Period: 60 months.

III. Eligibility Information

1. Eligible Applicants: State educational agencies; local educational agencies; the Bureau of Indian Education; IHEs; other public agencies; and other private agencies and organizations.

2. Cost Sharing or Matching: This program does not require cost sharing or matching.

IV. Application and Submission Information

1. Address to Request Application Package: You can obtain an application package via the internet, from the Education Publications Center (ED Pubs), or from the program office.

To obtain a copy via the internet, use the following address: www2.ed.gov/fund/grant/apply/grantapps/index.html.

To obtain a copy from ED Pubs, write, fax, or call: ED Pubs, U.S. Department of Education, P.O. Box 22207, Alexandria, VA 22304. Telephone, toll free: 1-877-433-7827. FAX: (703) 605-6794. If you use a TDD or a TTY, call, toll free: 1-877-576-7734.

You can contact ED Pubs at its Web site, also: www.EDPubs.gov or at its email address: edpubs@inet.ed.gov.

If you request an application package from ED Pubs, be sure to identify this program as follows: CFDA number 84.206A.

To obtain a copy from the program office, contact: Theda Zawaiza, U.S. Department of Education, 400 Maryland Avenue SW., Room 3E310, Washington, DC 20202-6200. Telephone: (202) 205-3783 or by email: Javitsapplication@ed.gov. If you use a TDD or TTY, call the Federal Relay Service (FRS), toll free, at 1-800-877-8339.

Individuals with disabilities can obtain a copy of the application package in an accessible format (e.g., braille, large print, audiotape, or compact disc) by contacting the program contact person listed in this section.

2. Content and Form of Application Submission: Requirements concerning the content and form of an application, together with the form you must submit, are in the application package for this competition.

Page Limit: The application narrative is where you, the applicant, address the selection criteria that reviewers use to evaluate your application. We recommend that you (1) limit the application narrative to no more than 35 pages, and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, resumes, bibliography, or letters of support. However, the recommended page limit does apply to all of the application narrative section.

3. Submission Dates and Times:

Applications Available: May 18, 2017.

Deadline for Transmittal of Applications: June 22, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

Deadline for Intergovernmental Review: August 21, 2017.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants under this competition must be submitted electronically unless you qualify for an exception to this requirement in accordance with the instructions in this section.

a. Electronic Submission of Applications.

Applications for grants under the Javits program, CFDA number 84.206A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Javits program at www.Grants.gov. You must search for the downloadable application package for this competition by the CFDA number. Do not include the CFDA number's alpha suffix in your search (e.g., search for 84.206, not 84.206A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only, flattened Portable Document Format (PDF). Do not upload an interactive or fillable PDF file. If you upload a file type other than a read-only, flattened PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, flattened PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the internet to submit your application.

If you mail your written statement to the Department, it must be postmarked no later than two weeks before the application deadline date. If you fax your written statement to the Department, we must receive the faxed statement no later than two weeks before the application deadline date.

Address and mail or fax your statement to: Theda Zawaiza, U.S. Department of Education, 400 Maryland Avenue SW., Room 3E310, Washington, DC 20202-6200. FAX: (202) 260-8969.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.206A, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.206A, 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210. The maximum possible score for addressing all criteria is 100 points. The maximum possible score for addressing each criterion is indicated in parentheses. The selection criteria for this competition are as follows:

(a) Quality of the Project Design (40 points)

The Secretary considers the quality of the design of the proposed project. In determining the quality of the design of the proposed project, the Secretary considers the extent to which—

(1) The goals, objectives, and outcomes to be achieved by the proposed project are clearly specified and measurable;

(2) The design of the proposed project is appropriate to, and will successfully address, the needs of the target population or other identified needs; and

(3) The proposed project represents an exceptional approach for meeting statutory purposes and requirements.

(b) Quality of Project Personnel (20 points)

The Secretary considers the quality of the personnel who will carry out the proposed project. In determining the quality of project personnel, the Secretary considers the extent to which the applicant encourages applications for employment from persons who are members of groups that have traditionally been underrepresented based on race, color, national origin, gender, age, or disability. In addition, the Secretary considers the following factors—

(1) The qualifications, including relevant training and experience, of the project director or principal investigator; and

(2) The qualifications, including relevant training and experience, of key project personnel.

(c) Quality of the Management Plan (20 points)

The Secretary considers the quality of the management plan for the proposed project. In determining the quality of the management plan for the proposed project, the Secretary considers the adequacy of the management plan to achieve the objectives of the proposed project on time and within budget, including clearly defined responsibilities, timelines, and milestones for accomplishing project tasks.

(d) Quality of the Project Evaluation (20 points)

The Secretary considers the quality of the evaluation to be conducted of the proposed project. In determining the quality of the project evaluation, the Secretary considers the extent to which—

(1) The methods of evaluation are thorough, feasible, and appropriate to the goals, objectives, and outcomes of the proposed project;

(2) The methods of evaluation include the use of objective performance measures that are clearly related to the intended outcomes of the project and will produce quantitative and qualitative data to the extent possible; and

(3) The evaluation will provide guidance about effective strategies suitable for replication or testing in other settings.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this program the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report (APR) that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: Pursuant to the Government Performance and Results Act of 1993, the Department has developed the following two measures for evaluating the overall effectiveness of projects funded under this competition: (1) The quality of project designs, based on an expert panel review; and (2) significant gains in academic achievement among target student populations.

For the first measure, the Department collects data twice over the life of the grant (mid-term and final) by convening an expert panel of scientists and practitioners to review information from a sample of APRs and self-evaluations prepared by grantees.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: May 15, 2017.
Jason Botel,
Acting Assistant Secretary for Elementary and Secondary Education.

[FR Doc. 2017-10086 Filed 5-17-17; 8:45 am]

BILLING CODE 4000-01-P